ENVIRONMENTAL PROTECTION AGENCY

[FRL-9997-76-OA]

Request for Nominations of Consultants To Support the Clean Air Scientific Advisory Committee (CASAC) for the Particulate Matter and Ozone Reviews

AGENCY: Environmental Protection Agency (EPA).

ACTION: Notice.

SUMMARY: The EPA Science Advisory Board (SAB) Staff Office requests public nominations for a pool of scientific consultants to support the chartered CASAC by providing subject matter expertise, as requested, on the scientific and technical aspects of air quality criteria and the National Ambient Air Quality Standards (NAAQS) for particulate matter (PM) and ozone.

DATES: Nominations should be submitted by (August 21, 2019) per instructions below.

FOR FURTHER INFORMATION CONTACT: Any member of the public wishing further information regarding this Notice and Request for Nominations may contact Mr. Aaron Yeow, Designated Federal Officer (DFO), SAB Staff Office, by telephone/voice mail at (202) 564-2050 or via email at yeow.aaron@epa.gov. General information concerning the CASAC can be found at the CASAC website at http://www.epa.gov/casac.

SUPPLEMENTARY INFORMATION:

Background: The Clean Air Scientific Advisory Committee (CASAC) was established under section 109(d)(2) of the Clean Air Act (CAA or Act) (42 U.S.C. 7409) as an independent scientific advisory committee. The CASAC provides advice, information and recommendations on the scientific and technical aspects of air quality criteria and NAAQS under sections 108 and 109 of the Act. The CASAC shall also: Advise the EPA Administrator of areas in which additional knowledge is required to appraise the adequacy and basis of existing, new, or revised NAAQS; describe the research efforts necessary to provide the required information; advise the EPA Administrator on the relative contribution to air pollution concentrations of natural as well as anthropogenic activity; and advise the EPA Administrator of any adverse public health, welfare, social, economic, or energy effects which may result from various strategies for attainment and maintenance of such NAAQS.

As amended, Section 109(d)(1) of the Clean Air Act (CAA) requires that EPA reviews the NAAQS at five-year intervals and revise, as appropriate, the air quality criteria and the NAAQS for the six “criteria” air pollutants, including PM and ozone.

This Federal Register notice solicitation is seeking nominations for consultants to support the Chartered CASAC for the PM and ozone reviews. These consultants will review science and policy assessments, and related documents, and will make themselves available, as requested, to provide feedback to the Chartered CASAC as part of EPA's review of the PM and Ozone NAAQS. The Chartered CASAC will provide advice to the EPA Administrator in a manner consistent with the Clean Air Act, Federal Advisory Committee Act, and CASAC's charter. These consultants should be available for consultation, through CASAC's Chair and Designated Federal Official. Chartered CASAC members will have the opportunity to seek input from consultants through written requests provided to CASAC's Chair and facilitated by the Designated Federal Official.

The Chartered CASAC is a Federal advisory committee chartered under the Federal Advisory Committee Act (FACA). As a Federal Advisory Committee, the chartered CASAC conducts business in accordance with the Federal Advisory Committee Act (FACA) (5 U.S.C. App. 2) and related regulations. The Chartered CASAC will comply with the provisions of FACA.

Request for Nominations: The SAB Staff Office is seeking nominations of scientists with demonstrated expertise and research in the field of air pollution related to PM and ozone, including:

• Air quality, atmospheric science and chemistry (including ambient measurements and satellite remote sensing aerosol optical depth analysis);

• exposure assessment (including dispersion modeling, photochemical grid modeling, and errors-in-variables methods and effects of exposure/covariate estimation errors on epidemiologic study results);

• dosimetry;

• toxicology;

• comparative toxicology (including extrapolation of findings in animals to humans);

• controlled clinical exposure;

• epidemiology (including low-dose causal concentration-response functions);

• biostatistics;

• human exposure modeling;

• causal inference;

• biological mechanisms of causation;

• risk assessment/modeling;

• multi-stressor interactions;

• ecology and effects on welfare and the environment;

• and effects on visibility impairment, climate, and materials.

Any interested person or organization may nominate qualified individuals in the areas of expertise described above. Individuals may self-nominate. Nominations should be submitted via email to the DFO, Mr. Aaron Yeow, as identified above. EPA values and welcomes diversity. All qualified candidates are encouraged to apply regardless of sex, race, disability or ethnicity. Nominations should be submitted by August 21, 2019.

The following information should be provided to the DFO: Contact information for the person making the nomination; contact information for the nominee; the disciplinary and specific areas of expertise of the nominee; the nominee's curriculum vitae; and a biographical sketch of the nominee indicating current position, educational background; research activities; sources of research funding for the last two years; and recent service on other national advisory committees or national professional organizations. Persons having questions about the nomination process should contact the DFO, as identified above. The DFO will acknowledge receipt of nominations. The Administrator shall select the expert consultants.

In selecting these consultants, the Administrator will consider information provided by the candidates themselves, and additional background information. Selection criteria to be used for selecting consultants include: (a) Scientific and/or technical expertise, knowledge, and experience (primary factors) necessary to address anticipated questions from the CASAC; (b) availability and willingness to provide feedback to the Chartered CASAC as requested; (c) skills providing subject matter expertise to committees, subcommittees and advisory panels; and, (d) diversity of expertise.

Dated: July 29, 2019.
Khanna Johnston,
Deputy Director, EPA Science Advisory Board Staff Office.

[FR Doc. 2019-16913 Filed 8-6-19; 8:45 am]

BILLING CODE 6560-50-P